DEPARTMENT OF ENERGY

Federal Energy Regulatory Commission

Notice of Meeting, Notice of Vote, Explanation of Action Closing Meeting and List of Persons To Attend

The following notice of meeting is published pursuant to Section 3(a) of the Government in the Sunshine Act (Pub. L. 94-409), 5 U.S.C. 552b:

Agency Holding Meeting: Federal Energy Regulatory Commission.

Date and Time: October 18, 2012.

Note: The Closed meeting will begin at the conclusion of the Open meeting.

Place: Room 2C, Commission Meeting Room, 888 First Street NE., Washington, DC 20426.

Status: Closed. Non-Public.

Matters to Be Considered: Investigations and Inquiries, Enforcement Related Matters.

Contact Person for More Information: Kimberly D. Bose, Secretary, Telephone (202) 502-8400.

Chairman Wellinghoff and Commissioners Moeller, Norris, LaFleur, and Clark voted to hold a closed meeting on October 18, 2012. The certification of the General Counsel explaining the action closing the meeting is available for public inspection in the Commission's Public Reference Room at 888 First Street NE., Washington, DC 20426.

The Chairman and the Commissioners, their assistants, the Commission's Secretary, the General Counsel and members of his staff, and a stenographer are expected to attend the meeting. Other staff members from the Commission's program offices who will advise the Commissioners in the matters discussed will also be present.

Dated: Issued October 11, 2012.
Kimberly D. Bose,
Secretary.

[FR Doc. 2012-25491 Filed 10-16-12; 8:45 am]

BILLING CODE 6717-01-P